INTER-AMERICAN FOUNDATION

30-Day Notice for IAF Solicitation Related to Consultation With IAF Indigenous Grantees and Tribal Nations in the United States (PRA)

AGENCY: Inter-American Foundation.

ACTION: Notice and request for comment.

SUMMARY: In compliance with the Paperwork Reduction Act (PRA) of 1995, this notice announces that the Inter-American Foundation (IAF), will submit to the Office of Management and Budget (OMB) a solicitation to conduct automated outreach to IAF Indigenous grantees and Tribal Nations in the United States. The solicitation explains the IAF's reasoning for this request and describes the type of information the agency seeks, along with calculations of possible related costs and burdens to potential participants.

FOR FURTHER INFORMATION CONTACT: Natalia Mandrus Associate General Counsel, (202) 688-3054 or via email to nmandrus@iaf.gov and Edward Gracia, Congressional Specialist, (202) 803-6109 or via email to egracia@iaf.gov.

DATES: Written comments must be submitted to the office listed in the address section below within 30 days from the date of this publication in the Federal Register.

SUPPLEMENTARY INFORMATION:

Title of Collection: IAF Solicitation Related to Consultation with Indigenous Grantees and Tribal Nations in the United States.

OMB Control Number: Will be assigned upon OMB approval.

Type of Review: New Collection (Request for a new OMB control number).

Affected Public: IAF Indigenous grantees and Tribal Nations in the United States.

Estimated Number of Respondents per year: 30.

Estimated Total Annual Burden Hours: 15 hours.

Abstract: In accordance with President Biden's January 26, 2021 memorandum on Tribal Consultation and Strengthening Nation-to-Nation Relationships, and Executive Order 13175, Consultation and Coordination with Tribal Governments (November 6, 2000), the IAF is committed to engaging in meaningful dialogue with Tribal Nations. The information collection would give Indigenous-led or Indigenous-serving organizations in Latin America, the Caribbean, and Tribal Nations in the United States an opportunity to participate in the design and fulfillment of U.S. policies and actions that may impact their interests. Also, the IAF would like to better understand interest on grantee exchanges between Tribal Nations in the United States and IAF Indigenous grantees and Indigenous-serving groups in order to share best practices.

Request for Comments: The IAF issued a 60-day Federal Register notice on June 3, 2021 (86 FR 31523). Comments were solicited and continue to be invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology, e.g., permitting electronic submission of responses. Comments submitted in response to this notice will be summarized and/or included in the request for OMB approval. All comments will become a matter of public record.

Aswathi Zachariah,
General Counsel.

[FR Doc. 2021-22945 Filed 10-20-21; 8:45 am]

BILLING CODE 7025-01-P